COMMISSION ON CIVIL RIGHTS

Notice of Public Meeting of the Nevada Advisory Committee; Correction

AGENCY: Commission on Civil Rights.

ACTION: Notice; correction.

SUMMARY: The Commission on Civil Rights published a notice in the Federal Register on Friday, August 26, 2022, concerning a meeting of the Nevada Advisory Committee. The meeting link and meeting ID have since been updated.

FOR FURTHER INFORMATION CONTACT: Ana Fortes, afortes@usccr.gov, 312-353-8311.

SUPPLEMENTARY INFORMATION:

Correction

In the Federal Register on Friday, August 26, 2022, in FR Document Number 2022-18364, on page 52504, second column, correct the meeting link to read: https://tinyurl.com/4y9nw423; correct the meeting ID to read: 161 870 4100; correct the phone number to read: (833) 435-1820.

Dated: August 30, 2022.
David Mussatt,
Supervisory Chief, Regional Programs Unit.

[FR Doc. 2022-19073 Filed 9-1-22; 8:45 am]

BILLING CODE P